DEPARTMENT OF ENERGY

Federal Energy Regulatory Commission

Combined Notice of Filings #1

Take notice that the Commission received the following electric rate filings:

Docket Numbers: ER10-2651-004.

Applicants: Lockhart Power Company.

Description: Updated Market Power Analysis for the Southeast Region of Lockhart Power Company.

Filed Date: 6/29/17.

Accession Number: 20170629-5245.

Comments Due: 5 p.m. ET 8/28/17.

Docket Numbers: ER10-2794-022; ER12-1825 020; ER14-2672 007.

Applicants: EDF Trading North America, LLC, EDF Energy Services, LLC, EDF Industrial Power Services (CA), LLC.

Description: Updated Market Power Analysis for the Northeast Region of the EDF Sellers.

Filed Date: 6/29/17.

Accession Number: 20170629-5247.

Comments Due: 5 p.m. ET 8/28/17.

Docket Numbers: ER10-2881-031; ER10-1874 005; ER10-2641 030; ER10-2663 031; ER10-2882 033; ER10-2883 031; ER10-2884 031; ER10-2885 031.

Applicants: Alabama Power Company, Southern Power Company, Mississippi Power Company, Georgia Power Company, Gulf Power Company, Oleander Power Project, Limited Partnership, Southern Company—Florida LLC, Mankato Energy Center, LLC.

Description: Updated Market Power Analysis for the Southeast Region of Alabama Power Company, et al.

Filed Date: 6/29/17.

Accession Number: 20170629-5243.

Comments Due: 5 p.m. ET 8/28/17.

Docket Numbers: ER10-3066-002; ER10-2309 003; ER10-3058 002; ER10-3059 002; ER10-3065 002.

Applicants: Edgewood Energy, LLC, Elwood Energy, LLC, Equus Power I, L.P., Pinelawn Power, LLC, Shoreham Energy, LLC.

Description: Triennial Market Power Update for the Northeast Region of J-POWER North America Holdings Co., Ltd. Affiliates.

Filed Date: 6/29/17.

Accession Number: 20170629-5250.

Comments Due: 5 p.m. ET 8/28/17.

Docket Numbers: ER11-3576-014; ER11-3401 013.

Applicants: Golden Spread Electric Cooperative, Inc., Golden Spread Panhandle Wind Ranch, LLC.

Description: Notice of Non-material Change in Status of Golden Spread Electric Cooperative, Inc.

Filed Date: 6/29/17.

Accession Number: 20170629-5248.

Comments Due: 5 p.m. ET 7/20/17.

Docket Numbers: ER14-2327-002; ER14-2328 002; ER14-2329 002; ER14-2330 002.

Applicants: Entergy Services, Inc., Entergy Nuclear Generation Company, Entergy Nuclear Indian Point 2, LLC, Entergy Nuclear Indian Point 3, LLC, Entergy Nuclear Power Marketing, LLC.

Description: Triennial Market Power Update for the Northeast Region of the Entergy Northeast MBR Utilities.

Filed Date: 6/29/17.

Accession Number: 20170629-5239.

Comments Due: 5 p.m. ET 8/28/17.

Docket Numbers: ER15-1308-004; ER11-2765 002; ER12-1739 002; ER12-2310 005.

Applicants: Kingfisher Wind, LLC, Bethel Wind Energy LLC, Elk Wind Energy LLC, Zephyr Wind, LLC.

Description: Notice of Non-Material Change in Status of the BlackRock MBR Affiliates.

Filed Date: 6/29/17.

Accession Number: 20170629-5249.

Comments Due: 5 p.m. ET 7/20/17.

Docket Numbers: ER17-1957-000.

Applicants: Black Hills Colorado IPP, LLC.

Description: § 205(d) Rate Filing: Revised Market-Based Rate Tariff to be effective 8/28/2017.

Filed Date: 6/29/17.

Accession Number: 20170629-5193.

Comments Due: 5 p.m. ET 7/20/17.

Docket Numbers: ER17-1958-000.

Applicants: New York State Electric & Gas Corporation.

Description: § 205(d) Rate Filing: NYSEG-NYPA Attachment C—O&M Annual Update to be effective 9/1/2017.

Filed Date: 6/29/17.

Accession Number: 20170629-5194.

Comments Due: 5 p.m. ET 7/20/17.

Docket Numbers: ER17-1959-000.

Applicants: Tampa Electric Company.

Description: § 205(d) Rate Filing: Section 205 Requirements Depreciation Rates 2017 Filing—Solar to be effective 1/1/2016.

Filed Date: 6/29/17.

Accession Number: 20170629-5212.

Comments Due: 5 p.m. ET 7/20/17.

Docket Numbers: ER17-1960-000.

Applicants: Helix Ravenswood, LLC.

Description: § 205(d) Rate Filing: Notice of Succession and Revisions to Spot Black Start service Rate Schedule to be effective 6/2/2017.

Filed Date: 6/29/17.

Accession Number: 20170629-5220.

Comments Due: 5 p.m. ET 7/20/17.

Docket Numbers: ER17-1961-000.

Applicants: Kendall Green Energy LLC.

Description: Market-Based Triennial Review Filing: Northeast Triennial & Tariff Revisions to be effective 6/30/2017.

Filed Date: 6/29/17.

Accession Number: 20170629-5221.

Comments Due: 5 p.m. ET 8/28/17.

Docket Numbers: ER17-1962-000.

Applicants: New York State Electric & Gas Corporation.

Description: § 205(d) Rate Filing: Rate Schedule FERC No. 87 Supplement to be effective 9/1/2017.

Filed Date: 6/29/17.

Accession Number: 20170629-5228.

Comments Due: 5 p.m. ET 7/20/17.

Take notice that the Commission received the following qualifying facility filings:

Docket Numbers: QF17-1140-000.

Applicants: UE00211NJ, LLC.

Description: Form 556 of UE00211NJ, LLC under QF17-1140.

Filed Date: 6/29/17.

Accession Number: 20170629-5156.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2017.
Kimberly D. Bose,
Secretary.

[FR Doc. 2017-14329 Filed 7-7-17; 8:45 am]

BILLING CODE 6717-01-P